NATIONAL AERONAUTICS AND SPACE ADMINISTRATION

[Notice 00-122]

NASA Advisory Council (NAC), Space Science Advisory Committee (SScAC); Meeting

AGENCY: National Aeronautics and Space Administration.

ACTION: Notice of meeting.

SUMMARY: In accordance with the Federal Advisory Committee Act, Public Law 92-463, as amended, the National Aeronautics and Space Administration announces a forthcoming meeting of the NASA Advisory Council, Space Science Advisory Committee.

DATES: Wednesday, November 1, 2000, 8:30 a.m. to 5:30 p.m.; Thursday, November 2, 2000, 8:30 a.m. to 5:30 p.m.; and Friday, November 3, 2000, 8:30 a.m. to Noon.

ADDRESSES: Jet Propulsion Laboratory, 4800 Oak Grove Drive, Building 180, First Floor Conference Room, Pasadena, CA 91109.

FOR FURTHER INFORMATION CONTACT: Dr. Marc Allen, Code S, National Aeronautics and Space Administration, Washington, DC 20546, 202/358-2470.

SUPPLEMENTARY INFORMATION: The meeting will be open to the public up to the capacity of the room. The agenda for the meeting includes the following:

—Associate Administrator's Program Status Report

—Science Theme Status Reports

—Subcommittee Reports

—GPRA FY 2000 Performance Report Discussion

—GPRA FY 2002 Performance Plan Status

—Education and Public Outreach Programs Report

—Mars Program Reformulation Status

—Plans for Establishment of a New Fifth NASA Strategic Enterprise

—Research Division Issues

It is imperative that the meeting be held on these dates to accommodate the scheduling priorities of the key participants. Visitors will be requested to sign a visitor's register.

Dated: October 2, 2000.
Beth M. McCormick,
Advisory Committee Management Officer, National Aeronautics and Space Administration.

[FR Doc. 00-26201 Filed 10-11-00; 8:45 am]

BILLING CODE 7510-01-P